FEDERAL RETIREMENT THRIFT INVESTMENT BOARD

Sunshine Act Meeting

TIME AND DATE: 9 a.m. (EST), September 16, 2011.

PLACE: 4th Floor Conference Room, 1250 H Street, NW., Washington, DC.

STATUS: Open.

MATTERS TO BE CONSIDERED:

1. Approval of the minutes of the August 15, 2011 Board member meeting.

2. Thrift Savings Plan activity report by the Executive Director.

a. Monthly Participant Activity Report.

b. Monthly Investment Performance Review.

c. Legislative Report.

3. Annual Budget Report.

a. Fiscal Year 2011 Results.

b. Fiscal Year 2012 Budget.

c. Fiscal Year 2013 Estimate.

CONTACT PERSON FOR MORE INFORMATION: Thomas J. Trabucco, Director, Office of External Affairs, (202) 942-1640.

Dated: September 7, 2011.
Laurissa Stokes,
Assistant General Counsel, Federal Retirement Thrift Investment Board.

[FR Doc. 2011-23274 Filed 9-7-11; 4:15 pm]

BILLING CODE 6760-01-P